DEPARTMENT OF THE INTERIOR

Bureau of Land Management

[LLCA930000-L14400000-ET0000; CACA-59497 et al. MO#4500160635]

Public Land Order No. 7911 Withdrawal Extension of 10 Secretary's Orders, 2 Public Land Orders and 1 Bureau of Land Management Order, as Modified by Public Land Order No. 7262, and Correction, California

AGENCY: Bureau of Land Management, Interior.

ACTION: Public Land Order.

SUMMARY: This Order extends the duration of the withdrawals created by 10 Secretary's Orders (SOs), 2 Public Land Orders (PLOs), and 1 Bureau of Land Management (BLM) Order, as modified by PLO No. 7262, affecting 145,644.03 acres of Federal lands from location and entry under the United States mining laws, but not from the general land laws or mineral leasing laws, for a 20-year period. The withdrawal extension is necessary to continue protection of the following Bureau of Reclamation Projects: Boulder Canyon, Colorado River Storage, Senator Wash Pump Storage, and Yuma Reclamation, which by the terms of the modification made by PLO 7262 would otherwise expire on July 6, 2022. Additionally, this Order corrects an error in labeling a project area as the All-American Canal Project, which appeared in a Federal Register notice on March 11, 2022.

DATES: This PLO takes effect on July 7, 2022.

FOR FURTHER INFORMATION CONTACT: Heather Daniels, BLM California State Office, telephone: (916) 978-4674, email: hdaniels@blm.gov; or Luis Rodriguez, USBR Yuma Area Office, telephone: (928) 343-8275, email: lrodriguez@usbr.gov, during regular business hours, 8:00 a.m. to 4:30 p.m. Monday through Friday, except holidays. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: PLO 7262 modified the following 10 SOs, 2 PLOs, and 1 BLM Order (BLMO):

(a) SO dated October 24, 1944 (CACA-7074);

(b) SO dated October 16, 1931 (CACA-7101);

(c) SO dated February 19, 1929 (CACA-7103);

(d) SO dated January 31, 1903 (CACA-7231);

(e) SO dated April 2, 1909 (CACA-7232);

(f) SO dated February 28, 1918 (CACA-7234);

(g) SO dated March 15, 1919 (CACA-7235);

(h) SO dated October 19, 1920 (CACA-7236);

(i) SO dated July 26, 1929 (CACA-7238);

(j) SO dated June 4, 1930 (CACA-7239);

(k) PLO No. 3262 dated October 29, 1963 (CARI-01051);

(l) PLO No. 4690 dated September 15, 1969 (CARI-07752); and

(m) BLMO dated July 23, 1947 (CACA-7073).

Correction

In the Federal Register of March 11, 2022, FR Doc # 2022-05117, starting on page 14032, lands described in the third column, on lines 18 thru 33, labeled as All-American Canal Project were incorrectly labeled. This publication corrects those legally described lands by incorporating them as part of the Colorado River Storage Project as described and listed below. The corrected acreage for the Colorado River Storage Project is 15,185.50 acres.

The areas aggregate acreage described for this action is 145,644.03 acres and remains unchanged.

Order

The purpose for which the withdrawals were first made requires this extension. By virtue of the authority vested in the Secretary of the Interior by Section 204(f) of the Federal Land Policy and Management Act of 1976, 43 U.S.C. 1714(f), it is ordered as follows:

The following 10 Secretary's Orders (SOs), 2 Public Land Orders (PLOs), and 1 BLM Order (BLMO), as modified by PLO No. 7262, effective July 7, 1997 (62 FR 30613), as corrected on July 16, 2003 (68 FR 42128), are hereby extended for a 20-year term pursuant to Section 204 of the Federal Land Policy and Management Act of 1976 (90 Stat. 2751, 43 U.S.C. 1714), subject to valid existing rights.

The land description for this Order is as follows:

San Bernardino Meridian, California

Boulder Canyon Project

PLO No. 4690 of September 15, 1969 (l) (CARI-07752)

T. 7 S., R. 7 E.,

Sec. 10, NE¼NE¼, NE¼NW¼NE¼, E½SE¼NE¼, and E½NE¼SE¼.

The areas described for PLO No. 4690 of September 15, 1969, contain 90.00 acres.

The total areas described for the Boulder Canyon Project contain 90.00 acres in Riverside County, California.

Colorado River Storage Project

SO of February 19, 1929 (c) (CACA-7103)

T. 5 S., R. 23 E.,

Sec. 14, E½;

Sec. 27, N½, SW¼, N½SE¼, and SW¼SE¼;

Sec. 28, lots 1 thru 4, W½NE¼, W½SE¼, and W½;

Sec. 33, lots 1 thru 5;

Sec. 34, NW¼NW¼.

The areas described for Secretary's Order of February 19, 1929, aggregate 1,804.09 acres.

BLMO of July 23, 1947 (m) (CACA-7073)

T. 7 S., R. 10 E.,

Sec. 34, E½SW¼.

The areas described for Bureau of Land Management Order of July 23, 1947, contain 80.00 acres.

SO of October 24, 1944 (a) (CACA-7074)

T. 8 N., R. 22 E.,

Sec. 18, lots 1 thru 4, E½NW¼, E½SW¼, and E½.

The areas described for Secretary's Order of October 24, 1944, contain 627.22 acres.

SO of October 16, 1931 (b) (CACA-7101)

T. 10 N., R. 22 E.,

Sec. 7, lots 1 thru 4, E1½NW¼, E½SW¼, and E½.

T. 3 S., R. 23 E.,

Sec.. 15 and 22.

T. 9 N., R. 23 E.,

Sec. 30, lot 2.

The areas described for Secretary's Order of October 16, 1931, aggregate 1,945.98 acres.

SO of July 26, 1929 (i) (CACA-7238)

T. 15 S., R. 23 E.,

Sec. 21, all;

Sec. 22, S½.

The areas described for Secretary's Order of July 26, 1929, contain 960.00 acres.

SO of June 4, 1930 (j) (CACA-7239)

T. 1 S., R. 24 E.,

Sec. 32, lots 12, 14, 15, 18, and W½NW¼.

T. 7 S., R. 10 E.,

Sec. 32, S½NE¼, S½NW¼, and S½;

Sec. 34, W½SW¼.

T. 11 S., R. 15 E.,

Sec. 6, lot 3;

Sec. 8, N½NE¼, SE¼NE¼;

Sec. 18, SE¼SE¼;

Sec. 20, SW¼NW¼;

Sec.. 22 and 26;

Sec. 28, SW¼NW¼.

T. 12 S., R. 16. E.,

Sec. 6, lot 9 and lots 14 thru 18;

Sec. 18, E½;

Sec. 20, all;

Sec. 21, NW¼SW¼ and S½SW¼;

Sec. 27, S½SW¼ and NW¼SW¼;

Sec. 28, S½, S½NE¼, NW¼NE¼, and NW¼;

Sec. 29, NE¼, NE¼NW¼, and NE¼SE¼;

Sec. 30, lot 7, lots 11 thru 14, and E½SW¼;

Sec. 31, lots 3 thru 6, and E½NW¼;

Sec. 34, E½, N½NW¼, SE¼NW¼;

Sec. 35, SW¼.

T. 13 S., R. 17 E.,

Sec. 5, SW¼SW¼;

Sec. 6, lots 14 thru 16, lots 21 thru 25, lots 27 thru 29, N½SE¼, and SE¼SE¼;

Sec. 7, NE¼NE¼;

Sec. 8, SE¼SW¼NE¼, N½SW¼NE¼, SW¼SW¼NE¼, NW¼, E½SW¼, NW¼SE¼, and S½SE¼;

Sec. 17, N½NE¼ and SE¼NE¼;

Sec. 21, NE¼, NE¼NW¼, E½SE¼, and NW¼SE¼;

Sec. 22, S½SW¼ and NW¼SW¼;

Sec. 26, SW¼SW¼;

Sec. 27, W½NE¼, N½NW¼, SE¼NW¼, NE¼SW¼, and SE¼;

Sec. 34, E½NE¼;

Sec. 35, W½NW¼, SE¼NW¼, N½SW¼, SE¼SW¼, and SE¼.

T. 14 S., R. 18 E.,

Sec. 7, lots 2 thru 4 and SE¼SW¼;

Sec. 17, SW¼SW¼;

Sec. 18, lot 1, NE¼SW¼, SW¼NE¼, and E½NW¼;

Sec. 19, E½NE¼;

Sec. 20, SE¼SW¼, N½SW¼, W½SE¼, S½NW¼, and NW¼NW¼;

Sec. 28, SW¼ and SW¼NW¼;

Sec. 29, NE¼SE¼ and NE¼;

Sec. 33, SE¼SE¼, N½SE¼, NW¼NE¼, S½NE¼, E½NW¼, and NW¼NW¼;

Sec. 34, W½SW¼.

The areas described for Secretary's Order of June 4, 1930, aggregate 9,768.21 acres.

The total areas described for the Colorado River Storage Project aggregate 15,185.50 acres.

Senator Wash Pump Storage Project

PLO No. 3262 of October 29, 1963 (k) (CARI-01051)

T. 14 S., R. 23 E.,

Sec. 36, SE¼SE¼SE¼.

T. 14 ½ S., R. 23 E.,

Sec. 36, N½NE¼NE¼ and NE¼NW¼NE¼.

The areas described for Public Land Order 3262 of October 29, 1963, contain 40.00 acres.

The total areas described for the Senator Wash Pump Storage Project contain 40.00 acres in Imperial County, California.

Yuma Reclamation Project

SO of January 31, 1903, as Modified by SOs of April 9, 1909, and April 5, 1910 (d) (CACA-7231)

T. 13 S., R. 16 E.,

Sec. 1, lots 2, 3, 6, 7, lots 9 thru 11, lots 14 thru 18, and lots 23 thru 25;

Sec. 5, lots 15 and 25;

Sec. 9, W½NW¼ and SE¼SW¼;

Sec. 21, SE¼SE¼;

Sec. 34, SE¼NE¼;

Sec. 35, SW¼SW¼.

T. 14 S., R. 16 E.,

Sec. 2, lot 4 and SE¼SW¼;

Sec. 11, lot 3;

Sec. 23, E½SW¼;

Sec. 26, E½NW¼ and E½SW¼;

Sec. 35, E½NW¼ and E½SW¼.

T. 15 S., R. 16 E.,

Sec. 2, lot 3, SE¼NW¼, and E½SW¼;

Sec. 11, lot 6 and NE¼NW¼;

Sec. 23, SE¼SE¼;

Sec. 25, W½NW¼ and W½SW¼SW¼;

Sec. 26, E½NE¼.

T. 16 S., R. 16 E.,

Sec. 1, lot 11;

Sec. 12, E½NW¼ and SW¼SE¼;

Sec. 13, lots 1 and 14, and SW¼SE¼;

Sec. 24, W½W½NE¼;

Sec. 25, NE¼NW¼.

T. 17 S., R. 16 E.,

Sec. 1, SE¼;

Sec. 10, NW¼SE¼;

Sec. 11, lot 17;

Sec. 12, lots 1 thru 4, N½, N½SE¼, and N½SW¼;

Sec. 13, lot 1;

Sec. 14, lot 1.

T. 14 S., R. 17E.,

Sec. 1, SW¼, S½NW¼, and SW¼SE¼;

Sec. 2, lots 3 and 4, S½NE¼, and NE¼SE41/4;

Sec. 12, E½NW¼, NE¼, N½SE¼, and SE¼SE¼.

T. 16 S., R. 17 E.,

Sec. 31, S½SE¼ and SE¼SW¼;

Sec. 32, S½SE¼, S½SW¼, and S½N½SW¼.

T. 16 S., R. 18 E.,

Sec. 31, lots 5 and 6, NE¼SW¼, N½SE¼, and S½NW¼;

Sec. 32, S½NE¼, S½NW¼, N½N½SW¼, and N½SE¼;

Sec. 33, SW¼ and S½SE¼;

Sec. 34, S½SE¼ and S½SW¼;

Sec. 35, S½SE¼ and S½SW¼.

T. 17 S., R. 17 E.,

Sec. 1 thru 5;

Sec. 6, lots 5 and 6, E½SW¼ and E½;

Sec. 7, lots 3 thru 9, NE¼, E½NW¼, NE¼SW¼, and N½SE¼;

Sec. 8, lots 1 thru 4, N½, N½SE¼, and N½SW¼;

Sec. 9, lots 1 thru 4 and N½;

Sec. 10, lots 1 thru 4 and N½;

Sec. 11, lots 1 thru 4 and N½;

Sec. 12, lots 1 thru 4, N½NE¼, and N½NW¼.

T. 15 S., R. 18 E.,

Sec. 3, lots 5 and 6, SE¼, SW¼NE¼, NE¼SW¼, and S½NW¼;

Sec. 4, lot 3;

Sec. 10, N½NE¼ and SE¼NE¼;

Sec. 11, SW¼SE¼, SW¼, NW¼NW¼, and S½NW¼;

Sec. 13, W½SW¼ and SE¼SW¼;

Sec. 14, N½SE¼, SE¼SE¼, NE¼, and NE¼NW¼;

Sec. 24, SE¼SE¼, N½SE¼, S½NE¼, NW¼NE¼, N½NW¼, and SE¼NW¼.

T. 17 S., R. 18 E.,

Sec. 1, lots 3 thru 5, N½, N½NE¼, N½NW¼, and SW¼SW¼;

Sec. 2 thru 5;

Sec. 6, lots 3 thru 6, E½, E½NW¼, and E½SW¼;

Sec. 7, lots 3 thru 7, N½NE¼, and NE¼NW¼;

Sec. 8, lots 1 thru 4, N½NE¼, and N½NW¼;

Sec. 9, lots 1 thru 4;

Sec. 10, lots 1 thru 4;

Sec. 11, lots 1 thru 4;

Sec. 12, lots 1 and 2.

T. 16 S., R. 19 E.,

Sec. 2, SW¼SW¼;

Sec. 3, lots 3 and 4, SW¼NE¼, S½NW¼, and S½;

Sec. 4, lots 1 thru 4, S½NE¼, S½NW¼, and S½;

Sec. 5, lots 3 thru 5, and SE¼NE¼;

Sec. 10, NE¼NE¼;

Sec. 11, all;

Sec. 12, SW¼SW¼;

Sec. 13, NW¼NW¼, S½NW¼, SW¼, and SW¼SE¼;

Sec. 14, E½NE¼ and NE¼NW¼NE¼;

Sec. 24, E½ and E½NW¼;

Sec. 25, NE¼NE¼ and S½;

Sec. 26, SE¼;

Sec. 31, lot 6, SE¼SW¼, and E½;

Sec. 32, all;

Sec. 33, S½SE¼ and S½SW¼;

Sec. 34, S½SE¼ and S½SW¼;

Sec. 35, S½SW¼ and E½.

T. 17 S., R. 19 E.,

Sec. 1, lots 1 thru 4, N½NE¼, N½NW¼, and S½NW¼;

Sec. 2, lots 1 thru 4, and N½;

Sec. 3, lots 1 thru 4, and N½;

Sec. 4, lots 1 thru 4, and N½;

Sec. 5, lots 1 thru 4, N½, N½SE¼, and N½SW¼;

Sec. 6, lots 1 thru 7, NE¼, E½NW¼, NE¼SW¼, N½SE¼.

The areas described for Secretary's Order of January 31, 1903, as modified by Secretary's Orders of April 9, 1909, and April 5, 1910, aggregate 25,784.45 acres.

SO of April 2, 1909, as Modified by SOs of April 5, 1910, and February 11, 1920 (e) (CACA-7232)

T. 9 S., R. 12 E.,

Sec. 30, portions of lots 1 and 2 of NW¼ south and west of State Highway 111, lots 1 and 2 of SW¼, portions of N½SE¼ south and west of State Highway 111, and S½SE¼;

Sec. 32 and 34;

T. 10 S., R. 12 E.,

Sec. 2, lots 1 and 2 of NE¼, lots 1 and 2 of NW¼, and S½;

Sec. 4, lots 1 and 2 of NE¼, lots 1 and 2 of NW¼, and S½;

Sec. 6, lots 1 and 2 of NE¼, lots 1 and 2 of NW¼, lots 1 and 2 of SW¼, and SE¼;

Sec. 8, 10, and 12.

T. 10 S., R. 15 E.,

Sec. 30, lot 6.

T. 12 S., R. 15 E.,

Sec. 2, SW¼SW¼.

The areas described for Secretary's Order of April 2, 1909, as modified by Secretary's Orders of April 5, 1910, and February 11, 1920, aggregate 5,540.76 acres.

SO of February 28, 1918 (f) (CACA-7234)

T. 15 S., R. 19 E.,

Sec. 19, lots 3 and 4, SE¼SW¼, and SW¼SE¼;

Sec. 29, SW¼NW¼, SW¼, and SW¼SE¼;

Sec. 30, NE¼SE¼, NE¼, and NE¼NW¼;

Sec. 32, NE¼NW¼ and NE¼;

Sec. 33, NW¼NW¼, S½NW¼, N½SW¼, SE¼SW¼, NW¼SE¼, and S½SE¼.

The areas described for Secretary's Order of February 28, 1918, contain 1,198.92 acres.

SO of March 15, 1919 (g) (CACA-7235)

T. 16 S., R. 20 E.,

Sec. 19, SW¼SW¼;

Sec. 21, SE¼, unsurveyed;

Sec. 22, SW¼, unsurveyed;

Sec. 26, NW¼NW¼, unsurveyed;

Sec. 27, N½, unsurveyed;

Sec. 28 and 29;

Sec. 30, NW¼NW¼, S½NW¼, SW¼, and SW¼SE¼;

Sec. 31, 32, 33, and 36;

Sec. 44, 45, 49, 50, 51, 52, and 54 unsurveyed;

Sec. 55, NE¼ and N½NW¼, unsurveyed;

Sec. 60, lots 1 thru 4, N½NE¼, and N½NW¼.

T. 17 S., R. 20 E.,

Sec. 5, lots 1 thru 4, N½NW¼;

Sec. 6, lots 1 thru 4, N½NE¼, and N½NW¼.

T. 16. S., R. 21 E.,

Sec. 27, lots 1 thru 14, SE¼NW¼, SW¼NE¼, E½SW¼, and W½SE¼;

Sec. 31, lots 1 thru 7, NE¼, E½NW¼, NE¼SW¼, and N½SE¼;

Sec. 32, lots 3 thru 9, W½NE¼, NW¼, N½SW¼, and NW¼SE¼;

Sec. 33, lots 5 thru 20;

Sec. 34, lots 5 thru 14, W½NE¼, NW¼, N½SW¼, and NW¼SE¼.

The areas described for Secretary's Order of March 15, 1919, contains 12,439.00 acres.

SO of October 19, 1920 (h) (CACA-7236)

T. 5 S., R. 7 E.,

Sec. 2, N½SW¼, SE¼SW¼, and SE¼;

Sec. 12, NW¼SE¼.

T. 6 S., R. 7 E.,

Sec. 20, NE¼NW¼, SE¼SW¼, and SW¼SE¼;

Sec. 28, W½NW¼, W½SW¼, and SE¼SW¼.

T. 5 S., R. 8 E.,

Sec. 18, E½SE¼.

T. 6 S., R. 8 E.,

Sec. 2, E½NW¼SE¼ and E½SE¼;

Sec. 12, W½.

T. 7 S., R. 8 E.,

Sec. 32, NE¼NE¼, E½NW¼NE¼, N½SE¼NE¼, and SE¼SE¼NE¼.

T. 6 S., R. 9 E.,

Sec. 18, lots 2 thru 4;

Sec. 20, S½NW¼ and SW¼;

Sec. 28, SW¼SW¼;

Sec. 34, SW¼SW¼.

T. 7 S., R. 9 E.,

Sec. 28, SE¼;

Sec. 32, S½NE¼ and SE¼.

T. 8 S., R. 9 E.,

Sec. 16 and 36.

T. 9 S., R. 9 E.,

Sec. 10, NE¼.

T. 8 S., R. 10 E.,

Sec. 2, portions of unnumbered lots of NW¼ south and west of State Highway 111, portions of SW¼ south and west of State Highway 111, and portions of SE¼ south and west of State Highway 111;

Sec. 4, all;

Sec. 6, lots 1 and 2 of SW¼, SE¼, and N½;

Sec.. 8 and 10;

Sec. 12, portions of W½NW¼ south and west of State Highway 111, portions of W½SW¼ south and west of State Highway 111, and portions of NE¼SW¼ south and west of State Highway 111;

Sec. 14, W½NE¼, SE¼NE¼, W½NW¼, SE¼NW¼, and S½;

Sec. 16, E½, W½NW¼, SE¼NW¼, and SW¼;

Sec. 18, lots 1 and 2 of NW¼, lots 1 and 2 of SW¼, and E½;

Sec.. 20, 22, 24, 26, and 28;

Sec. 30, lots 1 and 2 of NW¼, lots 1 and 2 of SW¼, and E½;

Sec. 32, lots 1 and 2 of SE¼, N½, SW¼, and N½SE¼;

Sec. 34, lots 1 thru 4, N½, N½SE¼, and N½SW¼;

Sec. 36, lots 1 thru 4, N½, N½SE¼, and N½SW¼.

T. 9 S., R. 10 E.,

Sec.. 1 thru 5, unsurveyed;

Sec. 6, lots 1 and 2 of NW¼, lots 1 and 2 of SW¼, and E½, partly unsurveyed;

Sec. 8, all, partly unsurveyed;

Sec.. 9 thru 13, unsurveyed;

Sec. 14, all, partly unsurveyed;

Sec. 15, N½, partly unsurveyed;

Sec. 16, all;

Sec. 18, lots 1 and 2 of NW¼, lots 1 and 2 of SW¼, and E½;

Sec. 20 and 22;

Sec. 24, all, partly unsurveyed;

Sec. 26 and 28;

Sec. 30, lots 1 and 2 of NW¼, lots 1 and 2 of SW¼, and E½;

Sec. 32, 34, and 36.

T. 10 S., R. 10 E.,

Sec. 2, lots 1 and 2 of NE¼, lots 1 and 2 of NW¼, and S½;

Sec. 4, lots 1 and 2 of NE¼, lots 1 and 2 of NW¼, and S½;

Sec.. 10, 12, 14, and 24.

T. 8 S., R. 11 E.,

Sec. 2, N½, NE¼SW¼, S½SW¼, and SE¼;

Sec. 6, lots 1 and 2 of SW¼, N½, and SE¼;

Sec. 18, portions of lot 2 south and west of State Highway 111;

Sec. 20, portions of W½SW¼ south and west of State Highway 111 and portions of SE¼SW¼ south and west of State Highway 111;

Sec. 28, W½ and SE¼;

Sec. 30, lots 1 and 2 of NW¼, lots 1 and 2 of SW¼, E½;

Sec. 32, all.

T. 8 S., R. 12 E.,

Sec. 6, lots 3 thru 28;

Sec. 8, lots 8 and 12 thru 16, NW¼NW¼, and SE¼SW¼;

Sec. 20, lots 1 and 2 and SE¼NE¼;

Sec. 22, lots 14 thru 20;

Sec. 26, lots 10, 11, 12, 14 thru 17, 24 thru 29, and 31 thru 34.

T. 9 S., R 11 E.,

Sec. 4, SW¼SW¼;

Sec. 6, lots 1 and 2 of NE¼, lots 1 and 2 of NW¼, lots 1 and 2 of SW¼, and SE¼;

Sec. 7, SW¼ partly unsurveyed;

Sec. 8, all;

Sec. 10, portions of SW¼NE¼ south and west of State Highway 111, S½NW¼, SW¼, portions of N½SE¼ south and west of State Highway 111, and S½SE¼;

Sec. 14, portions of N½NW¼ south and west of State Highway 111, portions of the SE¼ south and west of State Highway 111, S½NW¼, and SW¼,

Sec. 18, 19, 20, and 22, unsurveyed;

Sec. 24, portions of SW¼NW¼NW¼ south and west of State Highway 111, portions of S½NW¼ south and west of State Highway 111, portions of SW¼ south and west of State Highway 111, portions of W½SE¼ south and west of State Highway 111, and portions of SE¼SE¼, south and west of State Highway 111;

Sec. 26, all;

Sec. 28, all, partly unsurveyed;

Sec.. 29 thru 34, unsurveyed.

T. 10 S., R. 11 E.,

Sec. 2, lots 1 and 2 of NE¼, lots 1 and 2 of NW¼, and S½;

Sec. 4, lots 1 and 2 of NE¼, lots 1 and 2 of NW¼, and S½;

Sec. 6, lots 1 and 2 of NE¼, lots 1 and 2 of NW¼, lots 1 and 2 of SW¼, and SE¼;

Sec. 8, 10, 12, and 14;

Sec. 18, lots 1 and 2 of NW¼, lots 1 and 2 of SW¼, and E½;

Sec.. 20, 22, 24, 26, and 28;

Sec. 30, lots 1 and 2 of NW¼, lots 1 and 2 of SW¼, and E½;

Sec. 32, 34 and 36.

T. 11 S., R. 11 E.,

Sec. 2, lots 1 and 2 of NE¼, lots 1 and 2 of NW¼, and S½;

Sec. 4, lots 1 and 2 of NE¼, lots 1, and 2 of NW¼, and S½;

Sec. 6, lots 1 and 2 of NE¼, lots 1 and 2 of NW¼, lots 1 and 2 of SW¼, and SE¼;

Sec. 8, 10, 12, and 14;

Sec. 16, NE¼, E½NW¼, N½SE¼, and SE¼SE¼;

Sec. 18, lots 1 and 2 of NW¼, lots 1 and 2 of SW¼, and E½;

Sec.. 20, 22, 24, 26, and 28;

Sec. 30, lots 1 and 2 of NW¼, lots 1 and 2 of SW¼, and E½;

Sec. 32 and 34.

T. 12 S., R. 11 E.,

Sec. 2, lots 3 thru 7;

Sec. 4, lots 1 and 2 of NE¼, lots 1 and 2 of NW¼, N½SW¼, and SW¼SW¼;

Sec. 12, lot 1.

T. 11 S., R. 12 E.,

Sec. 2, lots 1 and 2 of NE¼, lots 1 and 2 of NW¼, and S½;

Sec. 4, lots 1 and 2 of NE¼, lots 1 and 2 of NW¼, and S½;

Sec. 6, lots 1 and 2 of NE¼, lots 1 and 2 of NW¼, lots 1 and 2 of SW¼, and SE¼;

Sec. 8, 10, 12, 14, and 16;

Sec. 18, lots 1 and 2 of NW¼, lots 1 and 2 of SW¼, and E½;

Sec.. 20, 22, 24, 26, and 28;

Sec. 30, lots 1 and 2 of NW¼, lots 1 and 2, of SW¼, and E½;

Sec. 32 and 34.

T. 12 S., R. 12 E.,

Sec. 2, lots 3 thru 6, S½NE¼, S½NW¼, and SW¼;

Sec. 4, lots 1 and 2 of NE¼, lots 1 and 2 of NW¼, and S½;

Sec. 6, lots 1 and 2 of NE¼, lots 1 and 2 of NW¼, lots 1 and 2 of SW¼, and SE¼.

T. 15 S., R. 12 E.,

Sec. 31, N½N½SE¼, S½S½NE¼.

T. 16 S., R. 12 E.,

Sec. 29, S½SE¼;

Sec. 33, SW¼NE¼, NE¼NW¼, and NE¼SE¼;

Sec. 34, NW¼SW¼.

T. 14 S., R. 13 E.,

Sec. 7, NE¼SE¼;

Sec. 32, lot 1 and SE¼SE¼;

Sec. 33, N½SW¼, NW¼NW¼, and SE¼NW¼.

T. 17 S., R. 13 E.,

Sec. 17, SW¼NW¼.

The areas described for Secretary's Order of October 19, 1920, aggregate 85,365.40 acres.

The total areas described for Yuma Reclamation Project aggregate 130,328.53 acres.

The Areas Described Aggregate 145,644.03 Acres in Imperial, and Riverside Counties, California

The withdrawals extended by this Order will expire 20 years from the effective date of this Order unless, as a result of a review conducted prior to the expiration date pursuant to Section 204(f), the Secretary determines that the withdrawals shall be further extended.

(Authority: 43 U.S.C. 1714)

Tanya Trujillo,
Assistant Secretary for Water and Science.

[FR Doc. 2022-14101 Filed 6-30-22; 8:45 am]

BILLING CODE 4310-40-P